DEPARTMENT OF DEFENSE

Department of the Army

Notice of Availability for Exclusive, Non-Exclusive, or Partially-Exclusive Licensing of an Invention Concerning the 2-Guanidino-4-oxo-Imidazoline Derivatives as Antimalarial Agents, Synthesis of and Methods of Use Thereof

AGENCY: Department of the Army, DoD.

ACTION: Notice.

SUMMARY: Announcement is made of the availability for licensing of the invention set forth in U.S. Provisional Patent Application Serial No. 61/518,800, entitled “2-Guanidino-4-oxo-Imidazoline Derivatives as Antimalarial Agents, Synthesis and Methods of Use Thereof,” filed on April 26, 2011. The United States Government, as represented by the Secretary of the Army, has rights to this invention.

ADDRESSES: Commander, U.S. Army Medical Research and Materiel Command, Attn: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to new 2-guanidino-4-oxo-imidazoline derivatives (deoxo-IZ), methods of making these compounds, compositions containing the same, and methods of using the same to prevent, treat, or inhibit malaria in a subject. The compounds have radical curative antimalarial activity.

Brenda S. Bowen,
Army Federal Register Liaison Officer.

[FR Doc. 2011-16258 Filed 6-28-11; 8:45 am]

BILLING CODE 3710-08-P